ENVIRONMENTAL PROTECTION AGENCY

[EPA-HQ-OAR-2003-0085; FRL-13049-01-OAR]

Proposed Information Collection Request; Comment Request; NESHAP for Radionuclides (40 CFR Part 61, Subparts B, K, R and W) (Renewal)

AGENCY: Environmental Protection Agency (EPA).

ACTION: Notice.

SUMMARY: The Environmental Protection Agency (EPA) is planning to submit an information collection request (ICR), “NESHAP for Radionuclides (Renewal)” (EPA ICR No. 1100.16, OMB Control No. 2060-0191) to the Office of Management and Budget (OMB) for review and approval in accordance with the Paperwork Reduction Act. Before doing so, the EPA is soliciting public comments on specific aspects of the proposed information collection as described below. An Agency may not conduct or sponsor and a person is not required to respond to a collection of information unless it displays a currently valid OMB control number.

DATES: Comments must be submitted on or before January 23, 2026.

ADDRESSES: Submit your comments, referencing Docket ID No. EPA-HQ-OAR-2003-0085, online using www.regulations.gov (our preferred method), by email to [a-and-r-Docket@epa.gov], or by mail to: EPA Docket Center, Environmental Protection Agency, Mail Code 28221T, 1200 Pennsylvania Ave. NW, Washington, DC 20460.

EPA's policy is that all comments received will be included in the public docket without change, including any personal information provided, unless the comment includes profanity, threats, information claimed to be Confidential Business Information (CBI) or other information whose disclosure is restricted by statute.

FOR FURTHER INFORMATION CONTACT: Joseph Rustick, Radiation Protection Division, Office of Radiation and Indoor Air, Mail Code 6608T, Environmental Protection Agency, 1200 Pennsylvania Ave. NW, Washington, DC 20460; telephone number: 202-564-9682; fax number: 202-343-2304; email address: rustick.joseph@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the Paperwork Reduction Act, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: On December 15, 1989, pursuant to Section 112 of the Clean Air Act as amended in 1977 (42 U.S.C. 1857), the Environmental Protection Agency (EPA) promulgated National Emission Standards for Hazardous Air Pollutants (NESHAP) regulations to control radionuclide emissions from several source categories. The regulations are codified at 40 CFR part 61. Of the eight subparts (B, H, I, K, Q, R, T and W) included in the 1989 rule, as currently amended, four apply to privately-operated facilities. In addition to requiring operational practices that limit emissions, subparts B, K, R, and W impose radionuclide dose and/or emission limits, respectively, to underground uranium mines, elemental phosphorous plants, phosphogypsum stacks, and uranium mill tailings impoundments. Facilities must inspect impoundments, measure radionuclide emissions, perform analyses or calculations per EPA procedures, and report the results to the EPA.

Information collected is used by the EPA to ensure that public health and the environment continue to be protected from the hazards of airborne radionuclides by compliance with these standards. Compliance is demonstrated through emissions testing and dose calculation when appropriate.

Form Numbers: None.

Respondents/affected entities: The North American Industry Classification System (NAICS) codes of facilities associated with the activity of the respondents are: (1) Elemental Phosphorous 325180, (2) Phosphogypsum Stacks 212390, (3) Underground Uranium Mines 212290, and (4) Uranium Mill Tailings 212290.

Respondent's obligation to respond: mandatory (CAA, Sec, 112; 40 CFR part 61).

Estimated number of respondents: 52 (total).

Frequency of response: Monthly, annual, or one-time depending on the source category and respondent activity.

Total estimated burden: 11,301 hours (per year). Burden is defined at 5 CFR 1320.03(b).

Total estimated cost: $1,412,827 (per year), which includes $408,300 annualized capital or operation and maintenance costs.

Changes in Estimates: Total estimated respondent hours increased from 4,146 hours in the previous approved version of this ICR to 11,301, primarily as a result of additional subpart B and subpart W facilities potentially coming online by 2029. Two subpart B facilities were reporting at the time of the last renewal in 2023, however, the Agency identified 12 respondents that are likely to submit annual reports by 2029, and 12 responses were added to the ICR, adding 2,760 hours of labor and $63,600 of non-labor cost to the burden that was approved in 2023. The Agency also identified a potential for an additional 15 non-conventional impoundments under subpart W to begin operation by 2029, adding an additional 4,215 hours of labor and $4,500 of non-labor costs. For subparts K and R, there were no changes to the number of respondents, the annual time burden, or the annual non-labor cost compared to the most recent renewals of this ICR.¹

¹ For the most recent renewal of ICR 2060-0191, see 87 FR 17084, March 25, 2022.

Dated: November 18, 2025.
Armin Ansari,
Acting Director, Radiation Protection Division.

[FR Doc. 2025-20670 Filed 11-21-25; 8:45 am]

BILLING CODE 6560-50-P